POSTAL REGULATORY COMMISSION

[Docket No. MC2021-25; Order No. 5750]

Mail Classification Schedule

AGENCY: Postal Regulatory Commission.

ACTION: Notice.

SUMMARY: The Commission is recognizing a recently filed Postal Service notice concerning minor classification changes to the Mail Classification Schedule related to International Mail. This notice informs the public of the filing, invites public comment, and takes other administrative steps.

DATES: Comments are due: November 20, 2020.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Summary of Changes

III. Notice of Commission Action

IV. Ordering Paragraphs

I. Introduction

On November 5, 2020, the Postal Service filed a notice of minor classification changes governing international mail in the Mail Classification Schedule (MCS) pursuant to 39 CFR 3040.212.¹ The Postal Service seeks to revise the size limits for international small packets as they appear in the MCS. Notice at 1. The changes are intended to take effect on January 24, 2021, in conjunction with the implementation of the Competitive product price change filed in Docket No. CP2021-15. Id. at 2.

¹ Notice of the United States Postal Service of Minor Classification Changes Concerning the Minimum Size Limit for International Small Packet, November 5, 2020 (Notice).

II. Summary of Changes

39 CFR 3040.212 requires the Postal Service to “notify the Commission of updates to size and weight limitations for [C]ompetitive mail matter” pursuant to 39 CFR 3040, subpart E. The Postal Service maintains that the Notice satisfies the requirements of 39 CFR 3040, subpart E because “the changes described should result in the MCS more accurately representing the Postal Service's current offerings.” Id.; see 39 CFR 3040.190(a). The Postal Service states that the Notice is filed at least 15 days before the intended effective date, and the changes merely revise size limits for international small packets as they appear in the MCS without otherwise changing product offerings or the prices or price groups applicable to such products and countries. Notice at 2-3; 39 CFR 3040.190(b) and (c). The Postal Service concludes that “these minor classification changes do not constitute material changes, to the product descriptions of the products that might be affected.” Notice at 3. The Notice includes a copy of the affected sections of the MCS with the proposed changes in legislative format as required by 39 CFR 3040.190(c)(3). Id. Attachment 1.

III. Notice of Commission Action

Pursuant to 39 CFR 3040.191, the Commission has posted the Notice on its website and invites comments on whether the Postal Service's filings are consistent with title 39 of the United States Code and 39 CFR part 3040, subparts E and F. Comments are due no later than November 20, 2020. The filing can be accessed via the Commission's website (http://www.prc.gov).

The Commission appoints Richard A. Oliver to represent the interests of the general public (Public Representative) in this docket.

IV. Ordering Paragraphs

It is ordered:

1. The Commission establishes Docket No. MC2021-25 to consider matters raised by the Notice.

2. Comments by interested persons are due by November 20, 2020.

3. Pursuant to 39 U.S.C. 505, Richard A. Oliver is appointed to serve as an officer of the Commission (Public Representative) to represent the interests of the general public in this proceeding.

4. The Commission directs the Secretary of the Commission to arrange for prompt publication of this notice in the Federal Register.

By the Commission.
Erica A. Barker,
Secretary.

[FR Doc. 2020-25108 Filed 11-12-20; 8:45 am]

BILLING CODE 7710-FW-P